DEPARTMENT OF HEALTH AND HUMAN SERVICES

Office of the Secretary

Notice of Publication of the Trusted Exchange Framework and Common Agreement

AGENCY: Office of the National Coordinator for Health Information Technology, Department of Health and Human Services.

ACTION: Notice.

SUMMARY: This notice fulfills an obligation under the Public Health Service Act (PHSA), which requires the National Coordinator for Health Information Technology to publish on the Office of the National Coordinator for Health Information Technology's public internet website, and in the Federal Register, the trusted exchange framework and common agreement developed under the PHSA.

FOR FURTHER INFORMATION CONTACT: Michael L. Lipinski, Office of the National Coordinator for Health Information Technology, 202-690-7151.

SUPPLEMENTARY INFORMATION: This notice fulfills the obligation under section 3001(c)(9)(C) of the Public Health Service Act (PHSA) to publish the trusted exchange framework and common agreement (TEFCA), developed under section 3001(c)(9)(B) of the PHSA (42 U.S.C. 300jj-11(c)(9)(B)), in the Federal Register. The TEFCA consists of the following two documents:

BILLING CODE 4150-45-P

The Trusted Exchange Framework and Common Agreement are also available on the Office of the National Coordinator for Health Information Technology's public internet website at www.HealthIT.gov/TEFCA.

Authority: 42 U.S.C. 300jj-11.

Suhas Tripathi,
National Coordinator for Health Information Technology.

[FR Doc. 2022-00948 Filed 1-18-22; 8:45 am]

BILLING CODE 4150-45-C